Executive Order 14131 of December 20, 2024

Amendments to Executive Orders Relating to Certain Certificates and Badges

By the authority vested in me as President by the Constitution and the laws of the United States of America, and as Commander in Chief of the Armed Forces of the United States, it is hereby ordered as follows:

Section 1. Amendments to Executive Order 12793, as Amended. Executive Order 12793 of March 20, 1992 (Continuing the Presidential Service Certificate and the Presidential Service Badge), as amended by Executive Order 13286 of February 28, 2003 (Amendment of Executive Orders, and Other Actions, in Connection With the Transfer of Certain Functions to the Secretary of Homeland Security), is further amended by:

(a) Amending section 1 to read as follows:

“Section 1. Presidential Service Certificate. The Presidential Service Certificate (Certificate) is hereby continued, the design of which accompanies and is hereby made a part of this order. The Certificate shall be awarded in the name of the President of the United States to members of the United States Uniformed Services who have been assigned to the White House Office; to military units and support facilities under the administration of the White House Military Office; or to other direct support positions within the Executive Office of the President (EOP). The Certificate shall be awarded by the Secretary of the military department concerned, or, when the Coast Guard is not operating as a service in the Navy, by the Secretary of Homeland Security, and, in the case of members of the Commissioned Corps of the National Oceanic and Atmospheric Administration or the Commissioned Corps of the Public Health Service, by the Secretary of Commerce or the Secretary of Health and Human Services, respectively. The Certificate shall not be issued to any member who is issued a Vice Presidential Certificate, or similar EOP Certificate, for the same period of service. Such assignment must be for a period of at least 1 year, subsequent to January 21, 1989.”; and

(b) Amending section 2 to read as follows:

“Sec. 2. Presidential Service Badge. The Presidential Service Badge (Badge) is hereby continued, the design of which accompanies and is hereby made a part of this order. The Badge shall be awarded to those members of the United States Uniformed Services who have been granted the Certificate and shall be awarded in the same manner in which the Certificate has been given. The Badge shall be worn as a part of the uniform of those individuals under such regulations as their respective Secretaries may severally prescribe.”.

Sec. 2. Amendments to Executive Order 11926, as Amended. Executive Order 11926 of July 19, 1976 (The Vice Presidential Service Badge), as amended by Executive Order 13286 and by Executive Order 13373 of March 10, 2005 (Amendments to Executive Order 11926 Relating to the Vice Presidential Service Badge), is further amended by:

(a) Amending section 1 to read as follows:

“Section 1. There is established a Vice Presidential Service Badge to be awarded in the name of the Vice President of the United States of America to members of the United States Uniformed Services who have been assigned to duty in the Office of the Vice President for a period of at least 1 year subsequent to December 19, 1974, or who have been assigned to perform duties predominantly for the Vice President for a period of at least 1 year subsequent to January 20, 2001, in the implementation of Public Law 93-346, as amended, or in military units and support facilities to which section 1 of Executive Order 12793 of March 20, 1992, as amended, refers.”;

(b) Amending section 2 to read as follows:

“Sec. 2. The Vice Presidential Service Badge may be awarded, upon recommendation of the Vice President's designee (with the concurrence of the Director of the White House Military Office in the case of personnel in military units or support facilities to which section 1 of Executive Order 12793, as amended, refers), by the Secretary of the military department concerned, or, when the Coast Guard is not operating as a service in the Navy, by the Secretary of Homeland Security, to military personnel of their respective services who have been assigned to duty in the Office of the Vice President and, in the case of members of the Commissioned Corps of the National Oceanic and Atmospheric Administration or the Commissioned Corps of the Public Health Service so assigned, by the Secretary of Commerce or the Secretary of Health and Human Services, respectively.”;

(c) Amending section 4 to read as follows:

“Sec. 4. Upon award, the Vice Presidential Service Badge may be worn as a part of the uniform of an individual both during and after their assignment to duty in the Office of the Vice President.”; and

(d) Amending section 6 to read as follows:

“Sec. 6. Notwithstanding the provisions of sections 1 and 2 of this order, any member of the United States Uniformed Services, who has been assigned to duty in the Office of the Vice President, or who has been assigned to perform duties predominantly for the Vice President, in the implementation of Public Law 93-346, as amended, or in military units and support facilities to which section 1 of Executive Order 12793, as amended, refers, is authorized, unless otherwise directed by the Director of the White House Military Office in the case of personnel in military units and support facilities to which section 1 of Executive Order 12793, as amended, refers, to wear the Vice Presidential Service Badge on their uniform commencing on the first day of such duty and thereafter while assigned to such duty.”.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 20, 2024.

[FR Doc. 2024-31355

Filed 12-26-24; 8:45 am]

Billing code 3395-F4-P